DEPARTMENT OF ENERGY

Federal Energy Regulatory Commission

[Docket No. EG02-104-000, et al.]

PPL Sundance Energy, LLC, et al.; Electric Rate and Corporate Regulation Filings

March 19, 2002.

Take notice that the following filings have been made with the Commission. Any comments should be submitted in accordance with Standard Paragraph E at the end of this notice.

1. PPL Sundance Energy, LLC

[Docket N. EG02-104-000]

Take notice that on March 15, 2002, PPL Sundance Energy, LLC (Applicant), having its principal place of business at Two North Ninth Street, Allentown, Pennsylvania, filed with the Federal Energy Regulatory Commission (Commission) an application for determination of exempt wholesale generator status pursuant to Part 365 of the Commission's regulations.

The Applicant is a Delaware limited liability company formed for the purpose of operating the 450 MW Sundance generating plant, located in Pinal County, Arizona. The Applicant is an indirect subsidiary of PPL Corporation, a public utility holding company exempt from registration under section 3(a)(1) of the Public Utility Holding Company Act of 1935.

Comment Date: April 9, 2002.

2. PPL University Park, LLC

[Docket No. EG02-105-000]

Take notice that on March 15, 2002, PPL University Park, LLC (Applicant), having its principal place of business at Two North Ninth Street, Allentown, Pennsylvania, filed with the Federal Energy Regulatory Commission (“Commission”) an application for determination of exempt wholesale generator status pursuant to Part 365 of the Commission's regulations.

The Applicant is a Delaware limited liability company formed for the purpose of operating the 540 MW University Park generating plant, located in University Park, Illinois. The Applicant is an indirect subsidiary of PPL Corporation, a public utility holding company exempt from registration under Section 3(a)(1) of the Public Utility Holding Company Act of 1935.

Comment Date: April 9, 2002.

3. Wolverine Power Supply Cooperative, Inc.

[Docket No. ER02-1321-000]

Take notice that on March 14, 2002, Wolverine Power Supply Cooperative, Inc., submitted for filing an executed Non-Firm Point-to-Point Transmission Service Agreement between Wolverine Power Supply Cooperative, Inc. and the Tower Kleber Limited Partnership dated January 1, 2002. Wolverine requests that this Agreement be designated as Service Agreement No. 3 under its FERC Electric Tariff, First Revised Volume No. 1.

Wolverine requests an effective date of January 1, 2002, for this Agreement.

Wolverine states that a copy of this filing has been served upon Tower Kleber Limited Partnership and the Michigan Public Service Commission.

Comment Date: April 4, 2002.

4. Wolverine Power Supply Cooperative, Inc.

[Docket No. ER02-1322-000]

Take notice that on March 14, 2002, Wolverine Power Supply Cooperative, Inc., submitted for filing an executed Generator Interconnection and Operation Service Agreement between Wolverine Power Supply Cooperative, Inc. and the Tower Kleber Limited Partnership dated January 1, 2002. Wolverine requests that this agreement be designated as Service Agreement No. 4 under its FERC Electric Tariff, First Revised Volume No. 1.

Wolverine requests an effective date of January 1, 2002, for this Agreement.

Wolverine states that a copy of this filing has been served upon Tower Kleber Limited Partnership and the Michigan Public Service Commission.

Comment Date: April 4, 2002.

5. Allegheny Power Service Corporation, on behalf of Monongahela Power Company, The Potomac Edison Company, and West Penn Power Company (Allegheny Power)

[Docket No. ER02-1323-000]

Take notice that on March 14, 2002, Allegheny Energy Service Corporation on behalf of Monongahela Power Company, The Potomac Edison Company and West Penn Power Company (Allegheny Power), filed First Revised Service Agreement No. 110 and Supplement No. 1 to First Revised Service Agreement No. 110 under Allegheny Power's Open Access Transmission Service Tariff. Service Agreement No. 110 was accepted for filing by the Federal Energy Regulatory Commission on July 24, 1997 in Docket No. ER97-3137-000. First Revised Service Agreement No. 110 and its Supplement No. 1 consist of an unexecuted Network Integration Transmission Service Agreement and Network Operating Agreement with the Borough of Tarentum and replace Service Agreement No. 110.

Allegheny Power requests that First Revised Service Agreement No. 110 and its Supplement No. 1 have an effective date of March 16, 2002.

Copies of the filing have been provided to the Customer and all parties of record.

Comment Date: April 4, 2002.

6. Mt. Carmel Cogen, Inc.

[Docket No. ER02-1324-000]

Take notice that on March 15, 2002, Mt. Carmel Cogen, Inc. (Mt. Carmel), filed with the Federal Energy Regulatory Commission an application for approval of its initial tariff (FERC Electric Tariff Original Volume No. 1), and for blanket approval for market-based rates pursuant to Part 35 of the Commission's regulations.

Mt. Carmel is a corporation formed under the laws of Delaware. Mt. Carmel owns and operates a 45-MW generating plant located in Mount Carmel, Pennsylvania.

Comment Date: April 5, 2002.

7. PPL Sundance Energy, LLC

[Docket No. ER02-1325-000]

Take notice that on March 15, 2002, PPL Sundance Energy, LLC (PPL Sundance) filed with the Federal Energy Regulatory Commission (Commission) an application for authority to sell electric energy, capacity and certain ancillary services at market-based rates.

Comment Date: April 5, 2002.

8. PJM Interconnection, L.L.C.

[Docket No. ER02-1326-000]

Take notice that on March 15, 2002, PJM Interconnection, L.L.C. (PJM), filed amendments to the PJM Open Access Transmission Tariff and the Amended and Restated PJM Operating Agreement to implement an Economic Load Response Program on a multi-year basis.

Copies of this filing were served upon all PJM members and each state electric utility regulatory commission in the PJM region.

PJM requests an effective date of June 1, 2002 for the amendments.

Comment Date: April 5, 2002.

9. PPL University Park, LLC

[Docket No. ER02-1327-000]

Take notice that on March 15, 2002, PPL University Park, LLC filed with the Federal Energy Regulatory Commission (Commission) an application for authority to sell electric energy, capacity and certain ancillary services at market-based rates.

Comment Date: April 5, 2002.

Standard Paragraph

E. Any person desiring to be heard or to protest such filing should file a motion to intervene or protest with the Federal Energy Regulatory Commission, 888 First Street, NE., Washington, DC 20426, in accordance with Rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-7149 Filed 3-25-02; 8:45 am]

BILLING CODE 6717-01-P